DEPARTMENT OF AGRICULTURE

Food and Nutrition Service

Agency Information Collection Activities: Proposed Collection; Comment Request—Evaluation of the Direct Certification With Medicaid for Free and Reduced-Price (DCM-F/RP) Meals Demonstrations

AGENCY: Food and Nutrition Service (FNS), U.S. Department of Agriculture.

ACTION: Notice.

SUMMARY: In accordance with the Paperwork Reduction Act of 1995, this notice invites the general public and other public agencies to comment on this proposed information collection. This is a new collection for the Evaluation of the Direct Certification with Medicaid for Free and Reduced-Price Meals (DCM-F/RP) Demonstrations.

DATES: Written comments must be received on or before April 25, 2017.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Conor McGovern, Food and Nutrition Service, U.S. Department of Agriculture, 3101 Park Center Drive, Room 1040, Alexandria, VA 22302. Comments may also be submitted via fax to the attention of Conor McGovern at 703-305-2576 or via email to conor.mcgovern@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Room 1040, Alexandria, VA 22302.

All responses to this notice will be summarized and included in the request for Office of Management and Budget approval. All comments will be a matter of public record.

FOR FURTHER INFORMATION CONTACT: Requests for additional information or copies of this information collection should be directed to Conor McGovern at 703-457-7740.

SUPPLEMENTARY INFORMATION: Title: Evaluation of the Direct Certification with Medicaid for Free and Reduced-Price Meals (DCM-F/RP) Demonstrations.

Form Number: N/A.

OMB Number: Not Yet Assigned.

Expiration Date: Not Yet Determined.

Type of Request: New collection.

Abstract: Direct certification has improved access to free school meals while easing the burden on families and district staff by reducing the use of household applications and decreasing the number of students subject to verification for school meal benefit eligibility. Direct certification also improves program integrity because it is less error-prone than certification by application.

Recently, FNS has sought ways to further expand direct certification, including experimenting with allowing direct certification based on data from means-tested programs that do not confer categorical eligibility. Prior DCM demonstrations have authorized selected States and districts to use income information from Medicaid files to determine students' eligibility based on their household income and directly certify those students found to be eligible for free meals. The new DCM-F/RP demonstration expands the use of direct certification using income information from Medicaid files to include eligibility for reduced-price meals. The evaluation of the DCM-F/RP demonstration will investigate the processes, challenges, and outcomes of using Medicaid data to directly certify students.

The study will gather data from State, School Food Authority,¹ and State Agency vendor staff, including (1) site visits and follow-up interviews to document DCM-F/RP processes, (2) administrative records on certification for school meal benefits and participation in the school meal programs, and (3) cost logs and clarification interviews on the State-level administrative costs of DCM-F/RP. Data will be collected for school year (SY) 2017-2018.

¹ Because nearly all schools in the National School Lunch Program and School Breakfast Program are parts of entities commonly known as school districts, we use that term in the rest of this document instead of School Food Authority to refer to local entities that enter into agreements with State agencies to operate the National School Lunch Program and the School Breakfast Program.

FNS is also conducting research with the State Child Nutrition and Medicaid agency officials, school district directors and school district food service staff to develop, test, and improve the evaluation data collection instruments and methodologies. This pre-testing burden was approved by the Office of Management and Budget on December 19, 2016 under OMB # 0584-0606 FNS Generic Clearance for Pre-Testing, Pilot, and Field Test Studies.

Affected Public: State and Local Government—Respondent groups identified include (1) State Child Nutrition Agency staff who administer the National School Lunch Program and School Breakfast Program from 15 State agencies, (2) State Medicaid Agency staff from 15 State agencies, (3) staff from 3 other State Agencies that play key roles in the direct certification process, and (4) school district staff from 32 districts.

Businesses—Respondent groups identified include 2 State Child Nutrition agency vendors and 2 Medicaid Agency vendors that play key roles in the direct certification process.

Estimated Number of Respondents: The total estimated number of unique respondents for SY 2017-2018 is 197 (193 respondents and 4 non-respondents). This count assumes 100 percent response from State Child Nutrition Agency staff on site visits, follow-up telephone interviews, administrative records requests, and cost data collection. For State Medicaid Agency staff, it assumes 100 percent response on site visits and 93 percent response on the follow-up telephone interviews and cost data collection. For other State Agency staff, it assumes 100 percent response on site visits and cost data collection. For school district staff, it assumes 100 percent response on site visits and 91 percent response on follow-up telephone interviews. For State Agency vendor staff, it assumes 100 percent response on site visit interviews. State Child Nutrition Agency, State Medicaid Agency, other State Agency, and district staff are expected to participate in multiple data collection activities, but each individual is counted only once in the total.

A total of 45 State Child Nutrition Agency staff (3 per State) will take part in the on-site interviews, with 30 of those respondents (2 per State) also taking part in on-site observations. Of the 45 State Child Nutrition Agency respondents, 15 (one from each State) will complete the follow-up telephone interview, administrative records request, and collection logs used to track State cost data. A total of 45 State Medicaid Agency staff (3 per State) will also take part in the on-site interviews, with 30 of those respondents (2 per State) also taking part in the on-site observations. Of the 45 State Medicaid Agency respondents, 15 (one from each State) will be asked to complete the follow-up telephone interview and collection logs used to track State cost data (including 14 respondents and 1 non-responder). A total of 3 respondents from other State Agencies (1 in each of 3 States) will take part in the on-site interviews and complete the collection logs used to track State cost data.

A total of 96 district respondents (3 per participating district) will take part in the on-site interviews, with 64 (2 per district) of those respondents also taking part in on-site observations. Of the 96 district respondents, 32 (one per district) will be asked to complete the follow-up telephone interview (including 29 respondents and 3 non-responders).

A total of 4 respondents from State Agency vendors (1 for each of 2 State Child Nutrition Agency vendors and 2 Medicaid Agency vendors) will take part in the on-site interviews.

Estimated Number of Responses per Respondent: The average estimated annual number of responses per respondent is 5.168 (5.217 for respondents and 2.75 for non-respondents). Site visits (including interviews and observations—both preceded by advance letters and scheduling calls) with State- and district-level staff will take place once during the year, and follow-up telephone interviews (preceded by scheduling calls) with State- and district-level staff will take place once later in the year. Administrative records data will be requested via email and collected twice during the year. Cost data will also be requested via email and collected through cost-tracking logs and interviews with State-level administrators four times during the year.

Estimated Total Annual Responses: We estimate that 1,007 total responses will be gathered in SY 2017-2018 (including 1,003 responses from state and local government entities and 4 from businesses) from 193 respondents (189 state and local government entities and 4 business entities). A further 11 responses from 4 non-responders (all from state and local government entities) are anticipated, for a total of 1,018 responses.

Estimated Time per Response: The estimated time per response is 0.879 hours (approximately 53 minutes). The estimated time of response varies from 2 minutes to 4 hours depending upon respondent action, as shown in the table below.

Estimated Total Annual Burden on Respondents: The total estimated annual burden is 894.675 hours, as shown in the table below.

BILLING CODE 3410-30-P

Dated: February 8, 2017.
Jessica Shahin,
Acting Administrator, Food and Nutrition Service.

[FR Doc. 2017-03569 Filed 2-23-17; 8:45 am]

BILLING CODE 3410-30-C